DEPARTMENT OF HOUSING AND URBAN DEVELOPMENT

[Docket No. FR-5038-N-05]

Notice of Proposed Information Collection: Comment Request; Rural Housing and Economic Development

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: February 26, 2007.

ADDRESSES: Interested persons are invited to submit comments regarding this proposal. Comments should refer to the proposal by name and/or OMB Control Number and should be sent to: Miriam Sears, Reports Liaison Officer, Department of Housing Urban and Development, 451 7th Street, SW., Room 7251, Washington, DC 20410.

FOR FURTHER INFORMATION CONTACT: Thann Young, (202) 708-2290 (this is not a toll-free number) for copies of the proposed forms and other available documents.

SUPPLEMENTARY INFORMATION: The Department will submit the proposed information collection to OMB for review, as required by the Paperwork Reduction Act of 1995 (44 U.S.C. Chapter 35 as Amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information

Title of Proposal: Rural Housing and Economic Development Program.

OMB Control Number, if applicable: 2506-0169.

Description of the need for the Information and proposed use: The information collection is essential so that HUD staff may determine the eligibility, qualifications, and capacity of the applicants to carry out activities under the Rural Housing and Economic Development Program. HUD will review the information provided by the applicants against the selection criteria contained in the Notice of Funding Availability (NOFA) in order to rate and rank the applications and select the best and most qualified applicant for funding. The applications are rated based on: (1) Capacity of the Applicant and Relevant Organizational Experience; (2) Need/Extent of the Problem; (3) Soundness of Approach; (4) Leveraging of Resources; and (5) Achieving Results and Program Evaluation.

Agency form numbers, if applicable: SF 424 (including a maximum 15 page application narrative in response to the factors for award).

Members of affected public: Eligible applicants include local rural non profit organizations, Community Development Corporations, State housing finance agencies, State community and/or economic development agencies and federally recognized Indian tribes.

Estimation of the total numbers of hours needed to prepare the Information collection including number of respondents, frequency Of response, and hours of response: The total number of applications submitted from Fiscal Year 1999 through Fiscal Year 2006 was 3,159, resulting in 760 grants. The proposed frequency of the response to the collection of the information is one-time.

Status of the proposed information collection: Reinstatement of a previously approved collection for which approval has expired.

Authority: The Paperwork Reduction Act of 1995, 44 U.S.C. Chapter 35, as amended.

Dated: December 19, 2006.
Pamela H. Patenaude,
Assistant Secretary for Community Planning and Development.

[FR Doc. E6-22159 Filed 12-26-06; 8:45 am]

BILLING CODE 4210-67-P